DEPARTMENT OF AGRICULTURE

Rural Housing Service

[Docket No. RHS-20-SFH-0008]

Notice of Request for Revision of a Currently Approved Information Collection

AGENCY: Rural Housing Service, USDA.

ACTION: Notice; comment requested.

SUMMARY: In accordance with the Paperwork Reduction Act of 1995, this notice announces the intention of the above-named agency to request Office of Management and Budget's (OMB) approval for a revision of a currently approved information collection in support of the Single-Family Housing Guaranteed Loan Program (SFHGLP).

DATES: Comments on this notice must be received by May 26, 2020 to be assured of consideration.

FOR FURTHER INFORMATION CONTACT: Arlette Mussington, Rural Development Innovation Center—Regulations Management Division, USDA, 1400 Independence Avenue SW, Room 4227, South Building, Washington, DC 20250-1522. Telephone: (202) 720-2825. Email: arlette.mussington@usda.gov.

SUPPLEMENTARY INFORMATION: The Office of Management and Budget's (OMB) regulation (5 CFR 1320) implementing provisions of the Paperwork Reduction Act of 1995 (Pub. L. 104-13) requires that interested members of the public and affected agencies have an opportunity to comment on information collection and recordkeeping activities (see 5 CFR 1320.8(d)). This notice identifies an information collection that RHS is submitting to OMB for revision.

Comments

Comments are invited on: (a) Whether the proposed collection of information is necessary for the proper performance of the functions of the Agency, including whether the information will have practical utility; (b) The accuracy of the Agency's estimate of the burden of the proposed collection of information including the validity of the methodology and assumptions used; (c) Ways to enhance the quality, utility and clarity of the information to be collected; and (d) Ways to minimize the burden of the collection of information on those who are to respond, including through the use of appropriate automated, electronic, mechanical, or other technological collection techniques or other forms of information technology.

Comments may be sent by the Federal eRulemaking Portal: Go to http://www.regulations.gov and, in the lower “Search Regulations and Federal Actions” box, select “RHS” from the agency drop-down menu, then click on “Submit.” In the Docket ID column, select RHS-20-SFH-0008 to submit or view public comments and to view supporting and related materials available electronically. Information on using Regulations.gov, including instructions for accessing documents, submitting comments, and viewing the docket after the close of the comment period, is available through the site's “User Tips” link.

Title: Single Family Housing Guaranteed Loan Program.

OMB Number: 0575-0179.

Expiration Date of Approval: December 31, 2020.

Type of Request: Revision of a Previously Approved Information Collection.

Abstract: Under this program, loan guarantees are provided to participating lenders who make loans to income eligible borrowers in rural areas. The purpose of this program is to promote affordable housing for low- and moderate-income borrowers in rural America.

The revision resulted from an estimated increase of 1,714,757 responses and 681,089 burden hours since the last submission. Any change in hours is a result of increased program level funding and demand by the public. Also considered is a change in the average loan amount, additional lenders participating in the program, due to a change in the program funding level and a keener interest by industry partners. Backlogs in some States caused delays in processing lender requests that resulted in various turn-around times from state to state. Integration of the SFHGLP into the National model was necessary to provide lenders improved customer service, consistent turn times and policy interpretation.

Estimate of Burden: Public reporting burden for this collection of information is estimated to average 49 minutes per response.

Respondents: Private sector lenders participating in the Rural Development Single Family Housing Guaranteed Loan Program.

Estimated Number of Respondents: 2,520.

Estimated Number of Responses per Respondent: 737.

Estimated Number of Responses: 1,766,094.

Estimated Total Annual Burden on Respondents: 1,361,748.

Copies of this information collection can be obtained from Arlette Mussington, Innovation Center—Regulations Management Division, at (202) 720-2825. Email: arlette.mussington@usda.gov.

All responses to this notice will be summarized and included in the request for OMB approval. All comments will also become a matter of public record.

Bruce W. Lammers,
Administrator, Rural Housing Service.

[FR Doc. 2020-06372 Filed 3-25-20; 8:45 am]

BILLING CODE 3410-XY-P